SMALL BUSINESS ADMINISTRATION

Data Collection Available for Public Comments

ACTION: 60-Day notice and request for comments.

SUMMARY: The Small Business Administration (SBA) intends to request approval, from the Office of Management and Budget (OMB), for the collection of information described below. The Paperwork Reduction Act (PRA) requires federal agencies to publish a notice in the Federal Register concerning each collection of information before submission to OMB and to allow 60 days for public comment in response to the notice. This information collection is currently approved under emergency procedures, which includes waiver of that notice. This publication complies with the PRA requirement to publish the waived notice as a prerequisite to requesting standard review and approval from OMB.

DATES: Submit comments on or before August 30, 2021.

ADDRESSES: Send all comments related to this Federal Register Notice electronically to 7apaycheckloanprogramquestions@sba.gov. with the Subject Line: “SBA Form 3511 Comments.”

FOR FURTHER INFORMATION CONTACT: Mary Frias, Loan Specialist, at mary.frias@sba.gov; 202-401-8234, or Curtis B. Rich, Management Analyst, 202-205-7030; curtis.rich@sba.gov.

SUPPLEMENTARY INFORMATION: Section 1102 of the Coronavirus Aid, Relief, and Economic Security (CARES) Act, Public Law 116-136, authorizes SBA to guarantee loans made by banks or other financial institutions under a new temporary 7(a) program titled the “Paycheck Protection Program” (“PPP”) to small businesses, certain non-profit organizations, veterans' organizations, Tribal business concerns, independent contractors and self-employed individuals adversely impacted by the Coronavirus Disease (COVID-19) Emergency. This authority initially expired on August 8, 2020. The Economic Aid to Hard-Hit Small Businesses, Nonprofits, and Venues Act (Economic Aid Act), Public Law 116-260, renewed SBA's authority to make PPP loans until March 31, 2021, and added authority for Second Draw PPP Loans under § 7(a)(37) of the Small Business Act. The program authority was further extended until June 30, 2021, by the PPP Extension Act of 2021, Public Law 117-6.

When they applied for a PPP loan, Borrowers with affiliates, as defined in SBA's regulations at 13 CFR 121.301(f), were required to disclose such affiliation and certify that they were eligible to receive the loan under the SBA's rules in effect at the time the application was submitted. During any review of a PPP loan, SBA will be evaluating the borrower's eligibility certification, including its compliance with size and affiliation requirements. If SBA determines that additional information is necessary to evaluate the borrower's eligibility certification, SBA uses this information collection (SBA Form 3511, Affiliation Worksheet) to collect that supplemental information from the borrower.

On December 14, 2020, SBA received approval from OMB to collect the information using Form 3511. On December 27, 2020, the Economic Aid Act was enacted, which among other things, revised certain PPP requirements governing borrower eligibility. On March 11, 2021, the American Rescue Plan Act (ARPA), Public Law 117-2, was enacted, which among other things, also expanded eligibility for First and Second Draw PPP Loans, revised the size standard calculation for certain businesses to be on a per physical location basis, and added affiliation waivers for certain businesses and organizations. As a result, SBA is making the following substantive revisions to Form 3511: (a) Adding two additional affiliation waivers to the table in Part B, Section I for eligible news organizations and internet-only publishing organizations and adding a new note to this section stating that the same affiliation waivers apply to First Draw and Second Draw PPP Loans; (b) adding language to Section II stating that only the employee-based size standard is applicable to Second Draw PPP Loans and adding a new note stating the applicable size standards for Second Draw PPP Loans; (c) revising the note explaining the size standards applicable to First Draw PPP Loans; and (d) adding language to notes 9-12, which explain the bases of affiliation, to provide guidance to assist nonprofit organizations in applying the affiliation rules. Finally, SBA is revising the format of the form by changing the footnotes to endnotes to prevent the tables from breaking across pages and to improve readability of the form. SBA requested emergency approval of these revisions to ensure affected borrowers have the information necessary to make informed decisions. SBA invites the public to provide comments on this information collection by the deadline stated above. Based on comments received, the Agency will make further revisions, if necessary. (a) Solicitation of Public Comments: SBA is requesting comments on (i) Whether the collection of information is necessary for the agency to properly perform its functions; (ii) whether the burden estimates are accurate; (iii) whether there are ways to minimize the burden, including through the use of automated techniques or other forms of information technology; and (iv) whether there are ways to enhance the quality, utility, and clarity of the information.

(b) Summary of Proposed Information Collection:

Title: Affiliation Worksheet.

Form Number: SBA Form 3511.

OMB Control Number: 3245-0416.

Description of respondents: Paycheck Protection Program Borrowers and Lenders.

Estimated number of respondents (Borrowers): 37,500.

Estimated time per response: 45 minutes.

Estimated number of respondents (Lenders): 5,000.

Estimated time per response: 15 minutes.

Total estimated annual responses: 42,500.

Total Estimated Annual Hour Burden: 37,500 hours.

Curtis Rich,
Management Analyst.

[FR Doc. 2021-14118 Filed 6-30-21; 8:45 am]

BILLING CODE 8026-03-P